DEPARTMENT OF TRANSPORTATION

Federal Aviation Administration

14 CFR Part 91

[Docket No. FAA-2001-11133; Amendment No. 91-323]

Manual Requirements

AGENCY: Federal Aviation Administration, DOT.

ACTION: Final rule; technical amendment.

SUMMARY: The Federal Aviation Administration (FAA) is making a minor technical change to a final rule published in the Federal Register on July 27, 2004. This final rule established new requirements for the certification, operation, and maintenance of light-sport aircraft under several regulations. In the final rule, the FAA inadvertently did not change an affected regulatory reference in one section. The FAA is issuing this technical amendment to correct that oversight.

DATES: Effective Dates: This rule becomes effective on August 5, 2011.

FOR FURTHER INFORMATION CONTACT: Kim Barnette, Flight Standards Service, Aircraft Maintenance Division, AFS-300, Federal Aviation Administration, 950 L'Enfant Plaza North, SW., Washington, DC 20024; telephone (202) 385-6403; facsimile (202) 385-6474; e-mail Kim.A.Barnette@faa.gov.

SUPPLEMENTARY INFORMATION: The FAA published a final rule entitled “Certification of Aircraft and Airmen for the Operation of Light-Sport Aircraft,” in the Federal Register on July 27, 2004 (69 FR 44772). That final rule established new requirements for the certification, operation, and maintenance of light-sport aircraft. That final rule also redesignated the concluding text of § 43.9(a) as § 43.9(d) but did not revise a cross-reference in § 91.417(a)(2)(vi) to reflect the redesignation of that text. This technical amendment will correct § 91.417(a)(2)(vi) to reference the redesignated text in § 43.9(d).

List of Subjects in 14 CFR Part 91

Reporting and recordkeeping requirements.

Accordingly, Title 14 of the Code of Federal Regulations (CFR) part 91 is amended as follows:

The Amendment

PART 91—GENERAL OPERATING AND FLIGHT RULES

1. The authority citation for part 91 continues to read as follows:

Authority: 49 U.S.C. 106(g), 1155, 40103, 40113, 40120, 44101, 44111, 44701, 44709, 44711, 44712, 44715, 44716, 44717, 44722, 46306, 46315, 46316, 46504, 46506-46507, 47122, 47508, 47528-47531, articles 12 and 29 of the Convention on International Civil Aviation (61 Stat.1180).

2. Amend § 91.417 by revising paragraph (a)(2)(vi) to read as follows:

§ 91.417 Maintenance records.

(a) * * *

(2) * * *

(vi) Copies of the forms prescribed by § 43.9(d) of this chapter for each major alteration to the airframe and currently installed engines, rotors, propellers, and appliances.

* * * * *

Issued in Washington, DC, on June 29, 2011.
Dennis R. Pratte,
Acting Director, Office of Rulemaking.

[FR Doc. 2011-16863 Filed 7-5-11; 8:45 am]

BILLING CODE 4910-13-P